DEPARTMENT OF STATE

[Public Notice 5569]

Shipping Coordinating Committee; Notice of Meeting

The Shipping Coordinating Committee will conduct an open meeting at 9:30 a.m. on Tuesday November 21, 2006 in Room 2415, at U.S. Coast Guard Headquarters, 2100 2nd Street, SW., Washington, DC, 20593-0001. The purpose of this meeting will be to finalize preparations for the 82nd Session of the Maritime Safety Committee, and associated bodies of the International Maritime Organization (IMO), which is scheduled for November 29—December 8, 2006 at the Polat Renaissance Istanbul Hotel in Istanbul, Turkey. At this meeting, papers received and the draft U.S. positions for the Maritime Safety Committee will be discussed. Among other things, the items of particular interest are:

—Adoption of amendments to: SOLAS, the High Speed Craft Code, the International Convention on Load Lines, the International Code for Fire Safety Systems, the LSA Code, the IBC Code, and the IGC Code.

—Measures to enhance maritime security

—Goal-based new ship construction standards

—Implementation of the revised STCW Convention

—Reports of seven subcommittees—Stability, load lines and fishing vessel safety, Dangerous goods, solid cargoes and containers, Radiocommunications and search and rescue, Ship design and equipment, Flag State implementation, Bulk liquids and gases, and Safety of navigation.

Members of the public may attend this meeting up to the seating capacity of the room. Interested persons may seek information by writing to Mr. Jeffrey Lantz, Commandant (G-PS), U.S. Coast Guard Headquarters, 2100 2nd Street, SW., Room 1218, Washington, DC 20593-0001 or by calling (202) 372-1351.

Dated: October 12, 2006.
Margaret Hayes,
Director, Shipping Coordinating Committee, Department of State.

[FR Doc. E6-17692 Filed 10-20-06; 8:45 am]

BILLING CODE 4710-09-P